DEPARTMENT OF HEALTH AND HUMAN SERVICES

National Institutes of Health

National Cancer Institute; Amended Notice of Meeting

Notice is hereby given of a change in the meeting of the National Cancer Advisory Board, September 11, 2000, 7 p.m. to September 13, 2000, 12:35 p.m., Bethesda Hyatt Regency, One Bethesda Metro, Bethesda, MD 20814 which was published in the Federal Register on August 22, 2000, 65 FR 51002.

The Subcommittee on Confidentiality scheduled for September 11, 2000 has been cancelled. The meeting is partially closed to the public.

Dated: September 11, 2000.
LaVerne Y. Stringfield,
Director, Office of Federal Advisory Committee Policy.

[FR Doc. 00-23843 Filed 9-15-00; 8:45 am]

BILLING CODE 4140-01-M